DEPARTMENT OF THE INTERIOR

Fish and Wildlife Service

50 CFR Part 20

RIN 1018-AG08

Migratory Bird Hunting; Late Seasons and Bag and Possession Limits for Certain Migratory Game Birds

AGENCY: Fish and Wildlife Service, Interior.

ACTION: Final rule; correction.

SUMMARY: The U.S. Fish and Wildlife Service (hereinafter Service or we) published a document in the September 28, 2000, Federal Register prescribing the hunting seasons, hours, areas, and daily bag and possession limits for general waterfowl seasons and those early seasons for which States previously deferred selection. This document corrects errors in the season dates and other pertinent information for the States of Florida, Idaho, and Tennessee.

DATES: This rule was effective on September 29, 2000.

FOR FURTHER INFORMATION CONTACT: Jon Andrew, Chief, Division of Migratory Bird Management, U.S. Fish and Wildlife Service, Department of the Interior, (703) 358-1714.

SUPPLEMENTARY INFORMATION: In the September 28, 2000, Federal Register (65 FR 58314), we published a final rule prescribing hunting seasons, hours, areas, and daily bag and possession limits for general waterfowl seasons, certain other migratory bird seasons, and those early seasons for which States previously deferred selection. The rule contained errors in the introductory language for several sections and entries for Florida, Idaho, and Tennessee, which are discussed briefly below and corrected by this notice.

We received public comment on the proposed rules for the seasons and limits established by the September 28 final rule. We addressed these comments in the August 23, 2000, (65 FR 51496) and September 27, 2000, (65 FR 58152) Federal Register. The corrections are typographical in nature and involve no change in substance in the contents of the prior proposed and final rules.

§ 20.104 [Corrected]

1. On page 58316 under the heading Seasons, limits, and shooting hours for rails, woodcock, and common snipe, the second introductory paragraph is corrected to read “Shooting and hawking hours are one-half hour before sunrise until sunset, except as otherwise restricted by State regulations. Area descriptions were published in the August 23, 2000, (65 FR 51496) and September 27, 2000, (65 FR 58152) Federal Register.”

2. On page 58316 under the heading Pacific Flyway, the heading “Idaho” is inserted above the heading Nevada; under the heading Idaho, the subheading “Zone 1” is inserted; across from the subheading Zone 1, the season dates of “Oct. 7-Jan. 19” are inserted in the column for common snipe; under the subheading Zone 1, the subheading “Zone 2 & 3” is inserted; across from the subheading Zone 2 & 3, the season dates of “Oct. 7-Oct. 18 & Oct. 21-Jan. 21” are inserted in the column for common snipe.

§ 20.105 [Corrected]

1. On page 58317 under the heading Seasons, limits, and shooting hours for waterfowl, coots, and gallinules, the second introductory paragraph is corrected to read “Shooting and hawking hours are one-half hour before sunrise until sunset, except as otherwise restricted by State regulations. Area descriptions were published in the August 23, 2000, (65 FR 51496) and September 27, 2000, (65 FR 58152) Federal Register.”

2. On page 58325 under the heading Tennessee, subheading Geese, subheading Light Geese, the possession limit of “30” is corrected to read “none.”

3. On page 58330 under the heading Florida, the season dates “Jan. 27 &” are corrected to read “Jan. 27 & 28.”

§ 20.107 [Corrected]

1. On page 58332 footnote (3) is corrected to read, “Harvests of trumpeter swans will be limited by quotas established in the September 27, 2000, Federal Register (65 FR 58152). When it has been determined that the quota of trumpeter swans allotted to Nevada and Utah will have been filled, the season for taking of any swan species in the respective State will be closed by either the Director upon giving public notice through local information media at least 48 hours in advance of the time and date of closing, or by the State through State regulations with such notice and time (not less than 48 hours) as they deem necessary.”

§ 20.109 [Corrected]

1. On page 58332 under the heading Extended seasons, limits, and hours for taking migratory game birds by falconry, the second introductory paragraph is corrected to read “Hawking hours are one-half hour before sunrise until sunset, except as otherwise restricted by State regulations. Area descriptions were published in the August 23, 2000, (65 FR 51496) and September 27, 2000, (65 FR 58152) Federal Registers.”

Dated: December 15, 2000.
Kenneth L. Smith,
Acting Assistant Secretary for Fish and Wildlife and Parks.

[FR Doc. 01-372 Filed 1-4-01; 8:45 am]

BILLING CODE 4310-55-P